FEDERAL DEPOSIT INSURANCE CORPORATION

Request for Comment on Study of Banking Regulations Regarding the Online Delivery of Banking Services; Correction

AGENCY: Federal Deposit Insurance Corporation (FDIC).

ACTION: Request for comment; correction.

SUMMARY: The FDIC published a document in the Federal Register of July 16, 2001, concerning request for comments on issues arising from the electronic delivery of financial products and services. The document inadvertently omitted the FDIC's EPC (electronic public comment) address.

FOR FURTHER INFORMATION CONTACT: Jenetha M. Hickson, Alternate Liaison Officer, (202) 898-3807.

Correction

In the Federal Register of July 16, 2001, in FR Doc. 01-17666, on page 37029, in the second column, correct the Addresses caption to read:

ADDRESSES: Send written comments to Robert E. Feldman, Executive Secretary, Attention: Comments/OES, Federal Deposit Insurance Corporation, 550 17th Street, NW, Washington, DC 20429. Comments may be hand-delivered to the guard station at the rear of the 550 17th Street Building (located on F Street), on business days between 7 a.m. and 5 p.m. (facsimile number (202) 898-3838. Comments may be submitted to the FDIC electronically over the Internet at <http://www.fdic.gov/regulations/laws/publiccomments/index.html or comments@fdic.gov <mailto:comments@fdic.gov>), and may be posted on the FDIC internet site at http://www.fdic.gov/regulations/laws/federal/propose.html. Comments may also be inspected and photocopied in the FDIC Public Information Center, Room 100, 801 17th Street, NW, Washington, DC 20429, between 9 a.m. and 4:30 p.m. on business days.

Dated: July 18, 2001.
Federal Deposit Insurance Corporation.
Robert E. Feldman,
Executive Secretary.

[FR Doc. 01-18300 Filed 7-20-01; 8:45 am]

BILLING CODE 6714-01-P